DEPARTMENT OF COMMERCE

Submission for OMB Review; Comment Request

The Department of Commerce will submit to the Office of Management and Budget (OMB) for clearance of the following proposal for collection of information under the provisions of the Paperwork Reduction Act (44 U.S.C. Chapter 35).

Agency: International Trade Administration (ITA).

Title: Export Information Services Order Forms.

Form Number(s): ITA-4096P.

OMB Control Number: 0625-0143.

Type of Request: Regular submission.

Burden Hours: 1,506.

Number of Respondents: 9,035.

Average Hours per Response: 10 minutes.

Needs and Uses: The Commercial Service (CS) offers a variety of services to enable clients to begin exporting or to expand existing exporting efforts. The CS provides a standard set of services to assist clients with identifying potential overseas partners, establishing meeting programs with appropriate overseas business contacts and providing due diligence reports on potential overseas business partners. The CS also provides other export-related services considered to be of a “customized nature” because they do not fit into the standard set of CS export services, but are driven by unique business needs of individual clients.

Before the CS can provide export-related services to clients, specific information is required to determine the client's business objectives and needs. This information collection is designed to elicit such data so that appropriate services can be proposed and conducted to most effectively meet the client's exporting goals. Without these forms the CS is unable to provide services when requested by clients.

The CS requests approval to use the currently approved “Company Information” Form for International Partner Search Service (IPS), to include their new Gold Key Service (GKS), by adding a check-box to the form. These two services involve the identification of appropriate potential business partners and require the same type of information about a client's exporting and business needs, therefore one form will be used to meet both functions. The primary difference between IPS and GKS—GKS provides meetings between the clients and the appropriate potential partners that have been identified for them.

The CS would like approval to make slight modifications to the currently approved International “Company Profile” Form based upon recommendations from clients. The slight layout and text changes will make the form easier for clients to understand and complete.

CS also seeks approval to replace the currently approved “Customized Market Research” Form with a more general Customized Services Form that would be used for a wide variety of customized services, including Customized Market Research. We are moving towards providing more customized solutions to clients to better meet their needs and this change will allow flexibility to tailor our services to precisely meet their unique requirements. The standardized services such as GKS, ICP and IPS are appropriate for a number of clients, but they are not necessarily the best fit for every client. CS would like the flexibility to make slight modifications to the Customized Services Form based upon new client needs that may arise within the next three years and for which we cannot identify at this point in time. As economic and business conditions vary, clients needs may change, and being able to make modifications will allow CS to immediately obtain the information needed to assess the clients' needs, and provide the most effective and appropriate export-related services.

This information collection request also seeks approval to continue the use of the “U.S. Supplier Search” Form in which CS obtains information on the product and service needs of international buyers in order for CS to provide details on U.S. suppliers who produce or provide the required products or services.

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to Wendy Liberante, OMB Desk Officer,Fax number (202) 395-5806 or via the Internet at Wendy_L._Liberante@omb.eop.gov.

Dated: October 24, 2008.
Gwellnar Banks,
Management Analyst, Office of the Chief Information Officer.

[FR Doc. E8-25813 Filed 10-29-08; 8:45 am]

BILLING CODE 3510-FP-P